DEPARTMENT OF JUSTICE

Notice of Lodging of Proposed Consent Decree Under the Comprehensive Environmental Response, Compensation, and Liability Act

On October 2, 2017, the Department of Justice lodged a Consent Decree with the United States District Court for the District of Maryland in the lawsuit entitled United States and State of Maryland v. AAI Corporation, et al. The Consent Decree resolves claims under Sections 106 and 107(a) of the Comprehensive Environmental Response, Compensation, and Liability Act (“CERCLA”), 42 U.S.C. 9606 and 9607(a), for past response costs, future response costs, injunctive relief, and natural resource damages (“NRDs”), incurred in connection with the disposal of hazardous substances at the 68th Street Dump Superfund Alternative Site outside of Baltimore, Maryland (“the Site”). The Complaint, brought jointly with the State of Maryland, filed concurrently with the Consent Decree alleges that the various defendants own, owned, operated, arranged for the transport of hazardous substances to, or transported hazardous substances to the Site. The proposed Consent Decree obligates certain defendants to perform the remedy which is set forth in the September 2013 Record of Decision (attached to the Consent Decree as Exhibit B), valued at approximately $51.5 million. The proposed Consent Decree also requires certain defendants to perform additional NRD restoration work, reimburse the Natural Resource Trustees (United States Department of the Interior, acting by and through the U.S. Fish and Wildlife Service; the U.S. Department of Commerce, acting by and through the National Oceanic and Atmospheric Administration; and the State of Maryland) $240,000 for past trustee NRD assessment costs, pay the Natural Resource Trustees $630,000 to fund an off-site restoration project, and pay up to $250,000 to the Natural Resource Trustees for their future oversight costs.

AAI Corporation; City of Baltimore, Maryland; CSX Realty Development, LLC; CSX Transportation, Inc.; Industrial Enterprises, Inc.; Pulaski & 68th Street, LLC; Browning-Ferris, Inc.; Acme Markets Inc.; Air Products and Chemicals, Inc.; AK Steel Corporation; Alcatel-Lucent USA Inc.; Alcolac Inc., now known as Solvay USA Inc.; Baltimore Galvanizing Co., Inc.; Baltimore Gas & Electric Company; Beazer East, Inc.; Brunswick Corporation; Chevron Environmental Management Company; Crown Cork & Seal Company, Inc.; Exxon Mobil Corporation; Honeywell International Inc.; International Paper Company; The Johns Hopkins Hospital; The Johns Hopkins Health System Corporation; The Johns Hopkins University; Lockheed Martin Corporation; Noxell Corporation; Pitney Bowes Inc.; PPG Industries, Inc.; Arkema Inc.; Smithfield Foods, Inc.; Sala Investment Limited Partnership; Sala Investment, LLC; BP Products North America Inc.; Constellation Power Source Generation, LLC; General Electric Company; Locke Insulators, Inc.; Verizon Maryland, LLC; Waste Management of Maryland, Inc.; Mullan Enterprises, Inc.; Black and Decker (U.S.) Inc.; Conagra Grocery Products Company, LLC; and Illinois Tool Works, Inc.

Several entities, including settling agencies of the United States and the State of Maryland, are resolving their alleged liability in the Consent Decree through payments to a trust account created by the group of companies that will perform the cleanup.

The publication of this notice opens a period for public comment on the Consent Decree. Comments should be addressed to the Acting Assistant Attorney General, Environment and Natural Resources Division, and should refer to United States and State of Maryland v. AAI Corporation, et al., DOJ number 90-11-3-10830. All comments must be submitted no later than 30 days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department Web site: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $90.50 (25 cents per page reproduction cost) payable to the United States Treasury. For a paper copy without the exhibits and signature pages, the cost is $17.25.

Jeffrey Sands,
Assistant Section Chief, Environmental Enforcement Section, Environment and Natural Resources Division.

[FR Doc. 2017-21928 Filed 10-10-17; 8:45 am]

BILLING CODE 4410-15-P